DEPARTMENT OF TRANSPORTATION

Federal Aviation Administration

14 CFR Part 39

[Docket No. FAA-2025-0750; Project Identifier MCAI-2022-01325-R; Amendment 39-23139; AD 2025-18-12]

RIN 2120-AA64

Airworthiness Directives; Airbus Helicopters Deutschland GmbH Helicopters

AGENCY: Federal Aviation Administration (FAA), DOT.

ACTION: Final rule.

SUMMARY: The FAA is adopting a new airworthiness directive (AD) for certain Airbus Helicopters Deutschland GmbH (AHD) Model MBB-BK 117 D-3 helicopters. This AD is prompted by reports of momentary direct current (DC) power interruption in flight of both essential busses. This AD requires revising the existing rotorcraft flight manual (RFM) to incorporate an emergency and malfunction procedure. The FAA is issuing this AD to address the unsafe condition on these products.

DATES: This AD is effective October 29, 2025.

The Director of the Federal Register approved the incorporation by reference of a certain publication listed in this AD as of October 29, 2025.

ADDRESSES:

AD Docket: You may examine the AD docket at regulations.gov under Docket No. FAA-2025-0750; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

• For European Union Aviation Safety Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222 5110. It is also available at regulations.gov under Docket No. FAA-2025-0750.

FOR FURTHER INFORMATION CONTACT: Dan McCully, Aviation Safety Engineer, FAA, 1600 Stewart Avenue, Suite 410, Westbury, NY 11590; phone: (404) 474-5548; email: william.mccully@faa.gov.

SUPPLEMENTARY INFORMATION:

Background

The FAA issued a notice of proposed rulemaking (NPRM) to amend 14 CFR part 39 by adding an AD that would apply to certain AHD Model MBB-BK 117 D-3 helicopters. The NPRM was published in the Federal Register on May 9, 2025 (90 FR 19662). The NPRM was prompted by AD 2022-0208, dated October 11, 2022, issued by EASA, which is the Technical Agent for the Member States of the European Union (EASA AD 2022-0208) (also referred to as the MCAI). The MCAI states that occurrences were reported of momentary DC power interruption in flight of both essential busses. The investigation is ongoing to identify the root cause of this occurrence. In the interim, AHD developed emergency and malfunction procedures to address this issue.

In the NPRM, the FAA proposed to require revising the RFM to incorporate an emergency and malfunction procedure. The owner/operator (pilot) holding at least a private pilot certificate may revise the existing RFM for the helicopter and must enter compliance with the applicable paragraph of the AD into the helicopter maintenance records in accordance with 14 CFR 43.9(a) and 91.417(a)(2)(v). This is an exception to the FAA's standard maintenance regulations. The unsafe condition, if not addressed, could result in loss of control of the helicopter or reduced situational awareness.

You may examine the MCAI in the AD docket at regulations.gov under Docket No. FAA-2025-0750.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2022-0208, which specifies procedures for revising the RFM by incorporating an emergency and malfunction procedure, informing all flight crews, and thereafter, operating the helicopter accordingly. This material provides updated battery discharging procedures, which includes a warning in case of total electrical failure.

This material is reasonably available because the interested parties have access to it through their normal course of business or by the means identified in the ADDRESSES section.

Differences Between This AD and the MCAI

The MCAI applies to Model MBB-BK117 D-3m helicopters, whereas this AD does not because that model does not have an FAA type certificate.

The MCAI requires operators to “inform all flight crew” of the revisions to the RFM, and thereafter to “operate the helicopter accordingly.” However, this AD does not require those actions as those actions are already required by FAA regulations. FAA regulations require operators furnish to pilots any changes to the RFM (for example, 14 CFR 135.21) and to ensure the pilots are familiar with the RFM (for example, 14 CFR 91.505). As with any other flight crew training requirement, training on the updated RFM content is tracked by the operators and recorded in each pilot's training record, which is available for the FAA to review. FAA regulations also require pilots to follow the procedures in the existing RFM including all updates. Therefore, including a requirement in this AD to inform the flight crew and operate the helicopter according to the revised RFM would be redundant and unnecessary.

Interim Action

The FAA considers that this AD is an interim action. If final action is later identified, the FAA might consider further rulemaking.

Costs of Compliance

The FAA estimates that this AD affects 27 helicopters of U.S. Registry. Labor rates are estimated at $85 per hour. Based on these numbers, the FAA estimates the following costs to comply with this AD.

Revising the existing RFM for the helicopter would take 1 work-hour for an estimated cost of $85 per helicopter and $2,295 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-18-12 Airbus Helicopters Deutschland GmbH: Amendment 39-23139; Docket No. FAA-2025-0750; Project Identifier MCAI-2022-01325-R.

(a) Effective Date

This airworthiness directive (AD) is effective October 29, 2025.

(b) Affected ADs

None.

(c) Applicability

This AD applies to Airbus Helicopters Deutschland GmbH (AHD) Model MBB-BK 117 D-3 helicopters, certificated in any category, as identified in European Union Aviation Safety Agency (EASA) AD 2022-0208, dated October 11, 2022 (EASA AD 2022-0208).

(d) Subject

Joint Aircraft Service Component (JASC) Code: 2432, Battery/Charger System.

(e) Unsafe Condition

This AD was prompted by reports of momentary direct current (DC) power interruption in flight of both essential busses. The FAA is issuing this AD to address DC power interruption through updated procedures. The unsafe condition, if not addressed, could result in loss of control of the helicopter or reduced situational awareness.

(f) Compliance

Comply with this AD within the compliance times specified, unless already done.

(g) Requirements

Except as specified in paragraph (h) of this AD, comply with all required actions and compliance times specified in, and in accordance with, EASA AD 2022-0208. The owner/operator (pilot) holding at least a private pilot certificate may revise the existing rotorcraft flight manual (RFM) for the helicopter and must enter compliance with this paragraph of the AD into the helicopter maintenance records in accordance with 14 CFR 43.9(a) and 91.417(a)(2)(v). The record must be maintained as required by 14 CFR 91.417, 121.380, or 135.439.

(h) Exceptions to EASA AD 2022-0208

(1) Where paragraph (1) of EASA AD 2022-0208 specifies to inform all flight crews and operate the helicopter accordingly, this AD does not require those actions as those actions are already required by existing FAA operating regulations (see 14 CFR 91.505 and 14 CFR 135.21).

(2) Where paragraph (2) of EASA AD 2022-0208 specifies “the RFM emergency and malfunction procedure, is an acceptable method” this AD requires replacing that text with “the RFM emergency and malfunction procedure, as defined in this AD, is an acceptable method”.

(3) This AD does not adopt the “Remarks” section of EASA AD 2022-0208.

(i) Special Flight Permit

Special flight permits are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Dan McCully, Aviation Safety Engineer, FAA, 1600 Stewart Avenue, Suite 410, Westbury, NY 11590; phone: (404) 474-5548; email: william.mccully@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2022-0208, dated October 11, 2022.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on September 18, 2025.
Steven W. Thompson,
Acting Deputy Director, Compliance & Airworthiness Division, Aircraft Certification Service.

[FR Doc. 2025-18491 Filed 9-23-25; 8:45 am]

BILLING CODE 4910-13-P